DEPARTMENT OF COMMERCE

International Trade Administration

[A-560-826]

Monosodium Glutamate From the Republic of Indonesia: Final Results of Antidumping Duty Administrative Review; 2020-2021

AGENCY: Enforcement and Compliance, International Trade Administration, Department of Commerce.

SUMMARY: The U.S. Department of Commerce (Commerce) determines that PT. Cheil Jedang Indonesia (CJ Indonesia) and PT. Miwon Indonesia (PT. Miwon) ¹ made sales of subject merchandise below normal value. The period of review (POR) is November 1, 2020, through October 31, 2021.

¹ See Initiation of Antidumping and Countervailing Duty Administrative Reviews, 86 FR 73734 (December 28, 2021). On August 26, 2022, Commerce published the final results of a changed circumstances review of MSG from Indonesia. Commerce found that PT. Daesang Ingredients Indonesia (PT. Daesang) is the successor-in-interest to PT. Miwon. See Monosodium Glutamate from the Republic of Indonesia: Final Results of Changed Circumstances Review, 87 FR 52506 (August 26, 2022) (MSG from Indonesia CCR). Because the effective date of this decision was after the POR, we continue to reference the respondent here as PT. Miwon.

DATES: Applicable April 10, 2023.

FOR FURTHER INFORMATION CONTACT: Andrew Huston, AD/CVD Operations, Office VII, Enforcement and Compliance, International Trade Administration, U.S. Department of Commerce, 1401 Constitution Avenue NW, Washington, DC 20230; telephone: (202) 482-4261.

SUPPLEMENTARY INFORMATION:

Background

On December 6, 2022, Commerce published the preliminary results of the administrative review of the antidumping duty order on monosodium glutamate (MSG) from the Republic of Indonesia (Indonesia).² For a history of events that have occurred since the Preliminary Results, see the Issues and Decision Memorandum.³

² See Monosodium Glutamate from the Republic of Indonesia: Preliminary Results of Antidumping Duty Administrative Review; 2020-2021, 87 FR 74599 (December 6, 2022) (Preliminary Results), and accompanying Preliminary Decision Memorandum (PDM).

³ See Memorandum, “Issues and Decision Memorandum for the Final Results of the Antidumping Duty Administrative Review: Monosodium Glutamate from the Republic of Indonesia; 2019-2020,” dated concurrently with, and hereby adopted by, this notice (Issues and Decision Memorandum).

Scope of the Order

The merchandise covered by the order is MSG, whether or not blended or in solution with other products. For a complete description of the scope of the order, see the Issues and Decision Memorandum.

Analysis of Comments Received

Commerce addressed all issues raised in the case and rebuttal briefs in the Issues and Decision Memorandum. These issues are identified in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our analysis of the comments received, we have made certain changes to the margin calculation for PT. Miwon since the Preliminary Results. Specifically, we have revised our calculation of the general and administrative expense ratio for PT. Miwon to remove certain bank charges and revised the comparison market program accordingly.⁴ There have been no changes to the dumping margin determined for CJ. Indonesia, which is based on facts available with an adverse inference.⁵

⁴ See Memorandum, “Final Analysis for PT. Miwon Indonesia,” dated concurrently with this memorandum.

⁵ See Preliminary Results PDM at 3-6.

Final Results of Review

As a result of this administrative review, we determine the following weighted-average dumping margins for the period November 1, 2020, through October 31, 2021:

Manufacturer/exporter | Weighted- average dumping margin (percent)
PT. Cheil Jedang Indonesia | * 58.67
PT. Daesang Ingredients Indonesia and PT. Miwon Indonesia ⁶ | 14.34
* Rate based on adverse facts available.

Disclosure

Commerce intends to disclose the calculations performed for PT. Miwon in these final results to interested parties within five days of the date of publication of this notice in the Federal Register, in accordance with 19 CFR 351.224(b). We will not release calculations for CJ Indonesia, because there have been no changes since the Preliminary Results.

⁶ As noted above, on August 26, 2022, Commerce published the final results of a changed circumstances review of MSG from Indonesia. Commerce found that PT. Daesang is the successor-in-interest to PT. Miwon. See MSG from Indonesia CCR. Cash deposits of estimated antidumping duties required pursuant to the final results of this review will be applied to PT. Daesang. Liquidation instructions for the POR will be issued for PT. Miwon.

Assessment

Pursuant to section 751(a)(2)(C) of the Tariff Act of 1930, as amended (the Act), Commerce shall determine, and U.S. Customs and Border Protection (CBP) shall assess, antidumping duties on all appropriate entries of subject merchandise in accordance with the final results of this administrative review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Where the respondent reported reliable entered values, Commerce calculated importer- (or customer-) specific ad valorem rates by aggregating the dumping margins calculated for all U.S. sales to each importer (or customer) and dividing this amount by the total entered value of the sales to each importer (or customer).⁷ Where Commerce calculated a weighted-average dumping margin by dividing the total amount of dumping for reviewed sales to a specific importer or customer by the total sales quantity associated with those transactions, Commerce will direct CBP to assess importer- (or customer-) specific assessment rates based on the resulting per-unit rates.⁸ Where an importer- (or customer-) specific ad valorem or per-unit rate is greater than de minimis (i.e., 0.50 percent), Commerce will instruct CBP to collect the appropriate duties at the time of liquidation.⁹ Where an importer- (or customer-) specific ad valorem or per-unit rate is zero or de minimis, Commerce will instruct CBP to liquidate appropriate entries without regard to antidumping duties.¹⁰

⁷ See 19 CFR 351.212(b)(1).

⁸ Id.

⁹ Id.

¹⁰ See 19 CFR 351.106(c)(2).

In accordance with Commerce's “automatic assessment” practice, for entries of subject merchandise that entered the United States during the POR that were produced by CJ Indonesia or PT. Miwon for which the respondent did not know that its merchandise was destined to the United States, Commerce will instruct CBP to liquidate unreviewed entries at the all-others rate of 6.19 percent,¹¹ if there is no rate for the intermediate company(ies) involved in the transaction.¹²

¹¹ See Monosodium Glutamate from the Republic of Indonesia: Final Determination of Sales at Less Than Fair Value, 79 FR 58329 (September 29, 2014) (MSG from Indonesia Investigation Final Determination).

¹² For a full discussion of this practice, see Antidumping and Countervailing Duty Proceedings: Assessment of Antidumping Duties, 68 FR 23954 (May 6, 2003).

Cash Deposit Requirements

The following cash deposit requirements will be effective upon publication of the notice of the final results of this administrative review for all shipments of MSG from Indonesia entered, or withdrawn from warehouse, for consumption on or after the date of publication of the final results in the Federal Register, as provided by section 751(a)(2)(C) of the Act: (1) for the companies covered by this review, the cash deposit rate will be the rates listed above in the section “Final Results of Review”; (2) for merchandise exported by producers or exporters not covered in this administrative review but covered in a prior segment of the proceeding, the cash deposit rate will continue to be the company-specific rate published in a completed segment for the most recent POR; (3) if the exporter is not a firm covered in this review or in the original investigation, but the producer is, the cash deposit rate will be the rate established for the most recently completed segment of this proceeding for the producer of the merchandise; and (4) the cash deposit rate for all other producers or exporters will continue to be 6.19 percent, the all-others rate established in the investigation.¹³ These cash deposit requirements, when imposed, shall remain in effect until further notice.

¹³ See MSG from Indonesia Investigation Final Determination.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Administrative Protective Order

This notice also serves as a reminder to parties subject to an administrative protective order (APO) of their responsibility concerning the destruction of proprietary information disclosed under APO in accordance with 19 CFR 351.305(a)(3). Timely written notification of the return or destruction of APO materials or conversion to judicial protective order is hereby requested. Failure to comply with the regulations and the terms of an APO is a sanctionable violation.

Notification to Interested Parties

Commerce is issuing and publishing these final results in accordance with sections 751(a)(1) and 777(i)(1) of the Act, and 19 CFR 351.221(b)(5).

Dated: April 4, 2023.
Abdelali Elouaradia,
Deputy Assistant Secretary for Enforcement and Compliance.

Appendix

List of Topics Discussed in the Issues and Decision Memorandum

I. Summary

II. Background

III. Scope of the Order

IV. Changes Since the Preliminary Results

V. Discussion of the Issues

Comment 1: PT. Miwon's Interest Income Offset

Comment 2: PT. Miwon's Revised General and Administrative (G&A) Ratio

VI. Recommendation

[FR Doc. 2023-07477 Filed 4-7-23; 8:45 am]

BILLING CODE 3510-DS-P